DEPARTMENT OF HOMELAND SECURITY

8 CFR Parts 215 and 235

[DHS-2004-0002]

RIN 1650-AA00

United States Visitor and Immigrant Status Indicator Technology Program (“US-VISIT”); Authority To Collect Biometric Data From Additional Travelers and Expansion to the 50 Most Highly Trafficked Land Border Ports of Entry; Correction

AGENCY: Border and Transportation Security Directorate, DHS.

ACTION: Interim rule; correction.

SUMMARY: The Department of Homeland Security (DHS) is correcting an interim rule that was published in the Federal Register on August 31, 2004 at 69 FR 53318. The interim rule becomes effective on September 30, 2004. The interim rule extends the United States Visitor and Immigrant Status Indicator Technology Program (US-VISIT) to the 50 most highly trafficked land border ports of entry in the United States and includes nonimmigrant aliens traveling without visas under the Visa Waiver Program. This interim rule also exempts certain officials of the Taipei Economic and Cultural Representative Office (TECRO) and their dependants from the collection of biometric information under US-VISIT.

DATES: This correction is effective September 30, 2004.

FOR FURTHER INFORMATION CONTACT: Michael Hardin, Senior Policy Advisor, US-VISIT, Border and Transportation Security; Department of Homeland Security; 1616 North Fort Myer Drive, 18th Floor, Arlington, VA 22209; (202) 298-5200.

SUPPLEMENTARY INFORMATION: The following corrections are made to the DHS interim rule, FR Doc. 04-19906, published in the Federal Register at 69 FR 53318, which becomes effective on September 30, 2004:

PART 215—[CORRECTED]

1. On page 53333, in the second column, paragraph (a)(2)(ii) is correctly revised to read as follows:

§ 215.8 [Corrected]

(a) * * *

(2) * * *

(ii) Aliens admitted on A-1, A-2, C-3 (except for attendants, servants, or personal employees of accredited officials), G-1, G-2, G-3, G-4, NATO-1, NATO-2, NATO-3, NATO-4, NATO-5, or NATO-6 visas, and certain Taiwan officials who hold E-1 visas and members of their immediate families who hold E-1 visas who are maintaining such status at time of departure, unless the Secretary of State and the Secretary of Homeland Security jointly determine that a class of such aliens should be subject to the requirements of paragraph (a)(1);

PART 235—[CORRECTED]

§ 235.1 [CORRECTED]

2. On page 53333, in the third column, paragraph (d)(iv)(B) is correctly revised to read as follows:

(d) * * *

(iv) * * *

(B) Aliens admitted on A-1, A-2, C-3 (except for attendants, servants, or personal employees of accredited officials), G-1, G-2, G-3, G-4, NATO-1, NATO-2, NATO-3, NATO-4, NATO-5, or NATO-6 visas, and certain Taiwan officials who hold E-1 visas and members of their immediate families who hold E-1 visas unless the Secretary of State and the Secretary of Homeland Security jointly determine that a class of such aliens should be subject to the requirements of paragraph (d)(1)(ii);

Elizabeth L. Branch,
Associate General Counsel for Rules and Legislation, Office of the General Counsel, Department of Homeland Security.

[FR Doc. 04-21935 Filed 9-28-04; 8:45 am]

BILLING CODE 4410-10-P